DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 10, 2009.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://fdms.gov.

This notice of receipt of applications for special permit is published in accordance with Part 107 of the Federal hazardous materials transportation law (49 U.S.C. 5117(b); 49 CFR 1.53(b)).

Issued in Washington, DC, on June 3, 2009.
Delmer F. Billings,
Director, Office of Hazardous Materials, Special Permits and Approvals.

Application No. | Docket No. | Applicant | Regulation(s) affected | Nature of special permits thereof
New Special Permits
14853-N |  | E.I. DuPont de Nemours & Company, Inc., Wilmington, DE | 49 CFR | To authorize the one-time, one-way transportation in commerce of a damaged DOT Specification 51 portable tank containing the residue of a non-flammable liquefied gas for repair.
14854-N |  | Airgas, Inc., Radnor, PA | 49 CFR 180.209 | To authorize the transportation in commerce of certain DOT 3AL cylinders manufactured from aluminum alloy 6061-T6 that are requalified every ten years rather than every five years using 100% ultrasonic examination and are not required to be hammer tested prior to each refill. (modes 1,2,3,4)
14855-N |  | Portersville Sales and Testing, Inc., Portersville, PA | 49 CFR 180.209(a) and (b) | To authorize the transportation in commerce of DOT 3A, 3AA, 3AX, 3AAX and 3T cylinders in MEGC's tube trailers, and independantly packaged cylinders mounted on transportable framework to be periodically requalified every ten years using test methods authorized under DOT-SP 12629 or 14453. (modes 1, 2, 3, 4)
14856-N |  | BKC Industries, Inc., Creedmoor, NC | 49 CFR 180.209(a) and (b) | To authorize the transportation in commerce of DOT 3A, 3AA, 3AX, 3AAX and 3T cylinders in MEGC's tube trailers, and independantly packaged cylinders mounted on transportable framework to be periodically requalified every ten years using test methods authorized under DOT-SP 12629 or 14453. (modes 1,2,3,4)
14857-N |  | Western Sales & Testing, Amarillo, TX | 49 CFR 180.209(a) and (b) | To authorize the transportation in commerce of DOT 3A, 3AA, 3AX, 3AAX and 3T cylinders in MEGC's tube trailers, and independantly packaged cylinders mounted on transportable framework to be periodically requalified every ten years using test methods authorized under DOT-SP 12629 or 14453. (modes 1,2,3,4)
14858-N |  | ECI Fuel Systems, Mira Loma, CA | 49 CFR 177.834(h) and 178.700 to 178.819 | To authorize the manufacture, mark and to sale of refueling tanks of less than 119 gallon capacity as intermediate bulk containers for use in transporting various Class 3 hazardous materials. (mode 1)
14859-N |  | Minuteman Aviation Inc. (MAI), Missoula, MT | 49 CFR 172.101 HMT Column (9B), 172.200, 172.300, 172.400 | To authorize the transportation of certain forbidden explosives and other hazardous materials by helicopter in remote areas of the US for seismic exploration without being subject to hazard communication requirements and quantity limitations. (mode 4)
14860-N |  | Alaska Airlines, Seattle, WA | 49 CFR 173.302(f) | To authorize the transportation in commerce of cylinders of compressed oxygen and oxidizing gases without rigid outer packaging when no other means of transportation exist. (mode 4)
14861-N |  | Gliko Aviation Inc., Belt, MT | 49 CFR 172.101 HMT Column (9B), 172.200, 172.300, 172.400 | To authorize the transportation of certain forbidden explosives and other hazardous materials by helicopter in remote areas of the US for seismic exploration without being subject to hazard communication requirements and quantity limitations. (mode 4)
14862-N |  | U.S. Custom Harvesters, Inc., Hutchinson, KS | 49 CFR 172.504 | To authorize the transportation in commerce of 1,000 gallons of diesel fuel without placarding the motor vehicle. (mode 1)
14864-N |  | Balchem Corporation, New Hampton, NY | 49 CFR 173.24(b)(1), 174.3 and 177.834(h) | To authorize the transportation in commerce of ethylene and allows for the controlled release of the hazardous material for the purposes of ripening fruits or vegetables. (modes 1, 2)
14865-N |  | Alaska Railroad Corporation, Anchorage, AK | 49 CFR 172.101 Column (9A) | To authorize the transportation in commerce of liquefied petroleum gas in a specially designed vault when transported by railroad in Alaska. (mode 2)
14866-N |  | Fluorochemika Laboratories, LLC, Wilmington, DE | 49 CFR 173.301(f)(1) | To authorize the transportation in commerce of sulfuryl fluoride in certain DOT specification cylinders that are not equipped with a pressure relief device. (modes 1, 2, 3)
14867-N |  | GTM Technologies, Inc., Amarillo, TX | 49 CFR 173.302a, 173.304a | To authorize the manufacture, marking, sale and use of non-DOT specification fiber reinforced hoop wrapped cylinders with water capacities of up to 120 cubic feet for use in transporting certain Class 2 gases. (modes 1, 2, 3, 4, 5)
14868-N |  | Wal-Mart Stores, Inc., Bentonville, AR | 49 CFR 172.102(c) Special provision 130, 172.200(a) and 173.185(d) | To authorize the transportation in commerce of certain batteries intended for recycling, disposal or liquidation in an alternative packaging configuration transported under refrigeration. (mode 1)
14869-N |  | Airgas, Inc., Cheyenne, WY | 49 CFR 178.337-17 | To authorize the transportation in commerce of two non-DOT specification cargo tank motor vehicles that have missing ASME identification plates. (mode 1)

[FR Doc. E9-13426 Filed 6-9-09; 8:45 am]

BILLING CODE 4909-60-M